DEPARTMENT OF DEFENSE

Department of the Army

Final Environmental Impact Statement (FEIS) for the Design, Construction, and Operation of One or More Pilot Test Facilities for Assembled Chemical Weapons Destruction Technologies at One or More Sites

AGENCY: Program Manager (PM), Assembled Chemical Weapons Assessment (ACWA), DoD.

ACTION: Notice of availability.

SUMMARY: This announces the availability of the FEIS which assesses the potential impacts of the design, construction, operation, and closure of one or more pilot-scale test facilities for an assembled chemical weapons destruction system at one or more chemical weapons stockpile sites. The FEIS examines the potential environmental impacts of the following alternatives, to include technologies that could be incorporated into a pilot-scale facility: (1) No action (continued storage on site with no ACWA pilot plant or destruction of the stockpile with no ACWA pilot plant); (2) chemical neutralization followed by biological treatment; (3) chemical neutralization followed by supercritical water oxidation; (4) chemical neutralization followed by transpiring wall supercritical water oxidation and gas phase chemical reduction; and (5) electrochemical oxidation.

The chemical stockpile sites are Anniston Army Depot in Alabama, Pine Bluff Arsenal in Arkansas, Pueblo Chemical Depot in Colorado (neutralization followed by transpiring wall supercritical water oxidation, and electrochemical oxidation are not alternatives at Pueblo due to restrictions of Public Law 106-398) and Blue Grass Army Depot in Kentucky. The PM ACWA pilot tests will not halt or delay the operation or construction of any baseline incineration facility currently in progress.

DATES: The waiting period for this FEIS will end 30 days after publication of the NOA in the Federal Register by the U.S. Environmental Protection Agency.

ADDRESSES: To obtain copies of the FEIS, contact the Program Manager for Assembled Chemical Weapons Assessment, Attention: Mr. Miguel Morales, 5183 Blackhawk Road, Building E5101/223, Aberdeen Proving Ground, MD 21010-4005 or by e-mail at Miguel.Morales@SBCCOM.apgea.army.mil.

FOR FURTHER INFORMATION CONTACT: Kimberly Collins, Home Engineering, 2014 Tollgate Road, Suite 208, Bel Air, MD 21015, by phone at 888-482-4312 or via e-mail at kimberly.collins@horne.com.

SUPPLEMENTARY INFORMATION: This proposed action continues the process that began when Congress established the ACWA Program through passage of the Omnibus Consolidated Appropriations Act, 1997 (Pub. L. 104-208). With the National Defense Authorization Act for Fiscal Year 1999 (Pub. L. 105-261), Congress directed the PM ACWA to plan for the pilot-scale testing of alternatives to baseline incineration for the destruction of assembled chemical weapons. The DoD published a Notice of Intent in the Federal Register on April 14, 2000 (65 FR 20139-20140) which provides notice (pursuant to the National Environmental Policy Act and implementing regulations), that it was preparing a draft EIS for follow-on tests including design, construction and operation of one or more pilot test facilities for assembled chemical weapons destruction technologies at one or more sites.

Assembled chemical weapons are munitions containing both chemical agents and explosives that are stored in the United States unitary chemical weapons stockpile. This includes cartridges, land mines, mortar rounds, projectiles, and rockets. Unitary agents include chemical blister agents (e.g., the mustard agents HD and HT) and nerve agents (e.g., GB (Sarin) and VX).

The PM for ACWA demonstrated the technologies considered to be viable. However, the National Defense Authorization Act for Fiscal Year 2001 (Pub. L. 106-398) limited the technologies to be considered at Pueblo Chemical Depot to those demonstrated prior to May 1, 2000, by the PM for ACWA. The sites considered were selected based on the availability of assembled chemical weapons at the time actual testing would begin. All public comments received on the Draft EIS have been addressed in the FEIS.

Dated: May 23, 2002.
Raymond J. Fatz,
Deputy Assistant Secretary of the Army, (Environment, Safety, and Occupational Health), OASA (I&E).

[FR Doc. 02-13453 Filed 5-29-02; 8:45 am]

BILLING CODE 3710-08-M